DEPARTMENT OF ENERGY

Federal Energy Regulatory Commission

[Project No. 6619-023]

Lake Upchurch Dam Preservation Association; Notice of Intent To Prepare an Environmental Assessment

On September 23, 2024, as supplemented on November 19, 2024, Lake Upchurch Dam Preservation Association (exemptee) filed an application for the surrender of its exemption for the Raeford Hydroelectric Project No. 6619. The project is located on Rockfish Creek, at Upchurch Pond, in Cumberland County, North Carolina. The project does not occupy any Federal lands.

The exemptee proposes to surrender the project exemption. The generating equipment has not operated since 2016, when the reservoir was lowered due to storm damage to the auxiliary spillway. No significant modifications to the existing dam, buildings, or structures and no ground disturbing activities are proposed. The applicant proposes to remove the electrical connections to the generators within the powerhouse and remove the electrical substation outside of the powerhouse to prevent future generation. There will be no work on the dam or spillways. Upon surrender of the exemption, the applicant proposes to pass all inflow at the dam. Historic pond elevations will be maintained subject to inflow.

Commission staff public noticed the application on December 4, 2024, and solicited comments, motions to intervene, and protests, with the comment period ending on January 6, 2025. No comments were received in response to the Commission's notice.

This notice identifies Commission staff's intention to prepare an environmental assessment (EA) for the project.¹ Commission staff plans to issue an EA by July 31, 2025. Revisions to the schedule may be made as appropriate. The EA will be issued for a 30-day comment period. All comments filed on the EA will be reviewed by staff and considered in the Commission's final decision on the proceeding.

¹ In accordance with the Council on Environmental Quality's regulations, the unique identification number for documents relating to this environmental review is EAXX-019-20-000-1737643443. 40 CFR 1501.5(c)(4) (2024).

The Commission's Office of Public Participation (OPP) supports meaningful public engagement and participation in Commission proceedings. OPP can help members of the public, including landowners, community organizations, Tribal members, and others to access publicly available information and navigate Commission processes.For public inquiries and assistance with making filings such as interventions, comments, or requests for rehearing, the public is encouraged to contact OPP at (202) 502-6595 or OPP@ferc.gov.

Any questions regarding this notice may be directed to Kelly Fitzpatrick at 202-502-8435 or kelly.fitzpatrick@ferc.gov.

Dated: February 20, 2025.
Debbie-Anne A. Reese,
Secretary.

[FR Doc. 2025-03127 Filed 2-25-25; 8:45 am]

BILLING CODE 6717-01-P